DEPARTMENT OF LABOR

Employment and Training Administration

[TA-W-65,586]

Eaton Corporation Truck Components, Greenfield, IN; Notice of Termination of Investigation

Pursuant to Section 221 of the Trade Act of 1974, as amended, an investigation was initiated on March 13, 2009 in response to a worker petition filed by a company official on behalf of workers of Eaton Corporation, Truck Components, Greenfield, Indiana.

The petitioner has requested that the petition be withdrawn. Consequently, the investigation has been terminated.

Signed at Washington, DC this 23rd day of March 2009.
Linda G. Poole,
Certifying Officer, Division of Trade Adjustment Assistance.

[FR Doc. E9-8300 Filed 4-10-09; 8:45 am]

BILLING CODE 4510-FN-P